DEPARTMENT OF JUSTICE

Notice of Lodging of Proposed Third Amendment To Consent Decree Under the Clean Air Act

On December 2, 2021, the Department of Justice lodged a proposed Third Amendment to Consent Decree (“Amendment”) with the United States District Court for the Northern District of Indiana in the lawsuit entitled United States and the State of Indiana v. BP Products North America Inc., Civil Action No. 2:12-CV-207.

The Amendment relates to alleged violations of a 2012 Consent Decree (“Decree”) by BP Products North America Inc., (“BP Products”) at its refinery in Whiting, Indiana (“Whiting Refinery”).

The Amendment will resolve BP Products' violations of particulate matter (“PM”) limits contained in the Decree and at 40 CFR part 60, subpart Ja that are applicable to two fluidized catalytic cracking units (“FCCUs”) at the Whiting Refinery, and a motion to enforce the Decree filed by several Plaintiff-Intervenors.

The Amendment requires more frequent PM testing, revised PM testing parameters, operating parameters for emissions and opacity monitors and for electrostatic precipitators (“ESPs”), a PM emissions control technology, and the installation of various process analyzers. BP Products will also undertake a study to evaluate stack testing and ESP operation during unit startup and shutdown. BP Products will pay $512,450 in stipulated penalties after the Amendment is entered.

The publication of this notice opens a period for public comment on the Amendment. Comments should be addressed to the Assistant Attorney General, Environment and Natural Resources Division, and should refer to United States and the State of Indiana v. BP Products North America Inc., D.J. Ref. No. 90-5-2-1-09244. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amendment may be examined and downloaded at this Justice Department website: https://www.justice.gov/enrd/consent-decrees. We will provide a paper copy of the Amendment upon written request and payment of reproduction costs. Please mail your request and payment to: Consent Decree Library, U.S. DOJ—ENRD, P.O. Box 7611, Washington, DC 20044-7611.

Please enclose a check or money order for $8.50 (25 cents per page reproduction cost) payable to the United States Treasury.

Susan M. Akers,
Assistant Section Chief, Environmental Enforcement Section, Environment and Natural Resources Division.

[FR Doc. 2021-26526 Filed 12-7-21; 8:45 am]

BILLING CODE 4410-15-P